DEPARTMENT OF JUSTICE

Notice of Lodging of Consent Decree Under the Comprehensive Environmental Response, Compensation, and Liability Act

Notice is hereby given that on December 16, 2011, a proposed Consent Decree (the “Decree”) in United States v. Allied Waste of Puerto Rico, Inc., Motorola Electronica de Puerto Rico, Inc., and Pfizer, Inc., 3:11-cv-2218, was lodged with the United States District Court for the District of Puerto Rico.

In a complaint, filed simultaneously with the Decree, the United States alleges claims against each of the defendants, Allied Waste of Puerto Rico, Inc., Motorola Electronica de Puerto Rico, Inc., and Pfizer, Inc. (the “Defendants”), with respect to the Vega Baja Solid Waste Disposal Superfund Site (“Site”) for injunctive relief pursuant to Section 106(a) of the Comprehensive Environmental Response, Compensation, and Liability Act of 1980, (“CERCLA”), 42 U.S.C. 9606(a), response costs incurred by the United States pursuant to Section 107(a) of CERCLA, 42 U.S.C. 9607(a), and future response costs that may be incurred by the Plaintiff at the Site in the future, pursuant to Section 113(g)(2) of CERCLA, 42 U.S.C. 9613(g)(2).

Pursuant to the Decree, the Defendants will: (1) Implement the remedial action at the Site contained in the Operable Unit 2 Record of Decision which includes soil removal and remediation to address lead contamination; (2) aid in the development of institutional controls and operation and maintenance provisions that will be protective of the remedy; (3) pay EPA's future oversight costs; and (4) pay $1.5 million for past response costs incurred by the United States at the Site.

The Department of Justice will receive, for a period of thirty (30) days from the date of this publication, comments relating to the Decree. Comments should be addressed to the Assistant Attorney General, Environment and Natural Resources Division, and either emailed to pubcomment-ees.enrd@usdoj.gov or mailed to P.O. Box 7611, U.S. Department of Justice, Washington, DC 20044-7611, and should refer to United States v. Allied Waste of Puerto Rico, Inc., Motorola Electronica de Puerto Rico, Inc., and Pfizer, Inc., DJ Ref. No. 90-11-3-07244.

During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting a copy from the Consent Decree Library, please enclose a check in the amount of $33.50 (25 cents per page reproduction cost) payable to the U.S. Treasury or, if by email or fax, forward a check in that amount to the Consent Decree Library at the stated address.

Ronald G. Gluck,
Assistant Section Chief, Environmental Enforcement Section, Environment and Natural Resources Division.

[FR Doc. 2011-32870 Filed 12-22-11; 8:45 am]

BILLING CODE 4410-15-P